ENVIRONMENTAL PROTECTION AGENCY

[ER-FRL-6670-5]

Environmental Impacts Statements; Notice of Availability

Responsible Agency: Office of Federal Activities, General Information (202) 564-7167 or http://www.epa.gov/compliance/nepa/.

Weekly receipt of Environmental Impact Statements.

Filed 12/12/2005 Through 12/16/2005.

Pursuant to 40 CFR 1506.9.

EIS No. 20050523, Draft EIS, AFS, PA, West Branch of Tionesta Project, Road Construction and Vegetation Management, State Game Lands No. 29 and Chapman Dam State Park, Sheffield, Warren County, PA, Comment Period Ends: 02/06/2006, Contact: O'Dell Tucker 814-362-4613-Ext 125.

EIS No. 20050524, Final EIS, BLM, CA, Desert Southwest Transmission Line Project, New Substation/Switching Station Construction, Operation and Maintenance, Issuance of Right-of-Way Grant and U.S. Army COE Section 10 and 404 Permits, North Palm Springs and Blythe, CA, Wait Period Ends: 01/23/2006, Contact: Diane Gomez 760-251-4852.

EIS No. 20050525, Final EIS, NPS, CA, Golden Gate National Recreation Area (GGNRA) Fire Management Plan, Implementation, Muir Woods National Monument, Fort Point National Historic Site, San Mateo, San Francisco and Marin Counties, CA, Wait Period Ends: 01/23/2006, Contact: Alex Naar 415-331-6374.

EIS No. 20050526, Final EIS, NPS, CA, Santa Monica Mountains National Recreation Area, Fire Management Plan, Implementation, Santa Monica Mountains, CA, Wait Period Ends: 01/23/2006, Contact: Marty O'Toole 415-331-6374.

EIS No. 20050527, Final EIS, AFS, OR, Big Butte Springs Timber Sales, To Implementation Management Direction, Roque River-Siskiyou National Forest, Butte Falls Ranger District, Cascade Zone, Jackson County, OR, Wait Period Ends: 01/23/2006, Contact: Joe T. King 541-560-3400.

EIS No. 20050528, Draft EIS, AFS, IN, Tell City Windthrow 2004 Project, Salvage Harvest and Prescribed Burning of Windthrow Timber, Implementation, Hoosier National Forest, Perry, Crawford and Dubois Counties, IN, Comment Period Ends: 02/06/2006, Contact: Ron Ellis 812-275-5987.

EIS No. 20050529, Final EIS, FHW, CA, 1st Street Viaduct and Street Widening Project, To Replace Two Traffic Lanes on the 1st Street Viaduct between Vignes Street and Mission Road, Funding, in the City and County of Los Angeles, CA, Wait Period Ends: 01/23/2006, Contact: Steve Healow 916-498-5849.

EIS No. 20050530, Draft EIS, FHW, ID, ID-75 Timmerman to Ketchum—US-20 to Saddle Road, Increase Roadway and Transportation Safety, Cities of Bellevue, Hailey, Ketchum and the City of Sun Valley, Blaine County, ID, Comment Period Ends: 02/24/2006, Contact: Ed Johnson 208-334-9180.

EIS No. 20050531, Draft EIS, COE, CA, Prado Flood Control Basin Master Plan Project, Construct, Maintain and Operate Recreation Facilities, Santa Ana River Basin, Riverside and San Bernardino Counties, CA, Comment Period Ends: 02/06/2006, Contact: Dr. Nedenia C. Kennedy 213-452-3856.

EIS No. 20050532, Draft EIS, FRC, LA, Creole Trail Liquefied National Gas (LNG) Terminal and Pipeline Project, Construction and Operation, Cameron, Calcasieu, Beauregard, Allen, Jefferson, Davis and Acadia Parishes, LA, Comment Period Ends: 02/21/2006, Contact: Thomas Russo 1-866-208-3372.

EIS No. 20050533, Draft EIS, AFS, WV, Allegheny Wood Product Easement, Proposes to Convey an Easement of Right-of-Way along the Railroad Grade located in the Blackwater Canyon Area, Monongahela National Forest, Tucker County, WV, Comment Period Ends: 02/06/2006, Contact: Bill Shields 304-636-1800 Ext 287.

EIS No. 20050534, Draft EIS, AFS, WA, The Summit at Snoqualmie Master Development Plan (MPD), Proposal to Ensure Long-Term Economic Viability, Mt. Baker-Snoqualmie/Okanogan-Wenatchee National Forests, King County, WA, Comment Period Ends: 02/06/2006, Contact: Larry Donovan 415-744-3403.

EIS No. 20050535, Draft EIS, BIA, AK, Cordova Oil Spill Response Facility, Construct an Oil Spill Response Facility at Shepard Point, NPDES Permit and U.S. Army COE Section 10 and 404 Permits, Cordova, AK, Comment Period Ends: 02/10/2006, Contact: Kristin K'eit 907-586-7423.

EIS No. 20050536, Final EIS, FAA, 00, Horizontal Launch and Reentry of Reentry Vehicles, Facilitate the Issuance of Licenses in United States, Wait Period Ends: 01/23/2006, Contact: Stacey Zee 202-267-9305.

Amended Notices

EIS No. 20050460, Draft Supplement, USN, 00, Surveillance Towed Array Sensor System Low Frequency Active (SURTASS LFA) Sonar Systems, Updated and Additional Information, Implementation, Comment Period Ends: 02/10/2006, Contact: J.S. Johnson 703-465-8404.

Revision of Notice Published in FR 11/10/2005: Extending Comment Period from 12/27/2005 to 02/10/2006.

Dated: December 20, 2005.
Robert W. Hargrove,
Director, NEPA Compliance Division, Office of Federal Activities.

[FR Doc. E5-7771 Filed 12-22-05; 8:45 am]

BILLING CODE 6560-50-P